DEPARTMENT OF JUSTICE

Notice of Lodging of Proposed Consent Decree Under the Clean Water Act

Notice is hereby given that, for a period of 30 days, the United States will receive public comments on a proposed Consent Decree in United States v. ExxonMobil Pipeline Company (Civil Action No. 3:14-cv-0532), which was lodged with the United States District Court for the Middle District of Louisiana on August 26, 2014.

The Complaint in this Clean Water Act case was filed against ExxonMobil Pipeline Company (“ExxonMobil”) concurrently with the lodging of the proposed Consent Decree. The Complaint alleges that ExxonMobil is civilly liable for violation of the Clean Water Act (“CWA”), 33 U.S.C. 1321. The Complaint seeks civil penalties for the discharge of harmful quantities of crude oil into navigable waters of the United States or adjoining shorelines from ExxonMobil's “North Line” pipeline near Torbert, Louisiana, on April 28, 2012. The Complaint alleges that at least 2,800 barrels of oil were discharged from the pipeline during the spill event. The oil spilled into the surrounding area and flowed into an unnamed tributary connected to Bayou Cholpe. Under the settlement, ExxonMobil will pay a civil penalty of $1,427,120. ExxonMobil also is completing cleanup actions pursuant to an administrative order issued by the Louisiana Department of Environmental Quality and continues to do follow-up work and operate under a Corrective Action Order issued by the United States Department of Transportation, Pipeline and Hazardous Materials Safety Administration.

The publication of this notice opens a period for public comment on the proposed Consent Decree. Comments should be addressed to the Assistant Attorney General, Environment and Natural Resources Division, and should refer to United States v. ExxonMobil Pipeline Company, D.J. Ref. No. 90-5-1-1-10941. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $4.25 (25 cents per page reproduction cost) payable to the United States Treasury.

Maureen Katz,
Assistant Section Chief, Environmental Enforcement Section, Environment and Natural Resources Division.

[FR Doc. 2014-20792 Filed 8-29-14; 8:45 am]

BILLING CODE 4410-15-P